FEDERAL COMMUNICATIONS COMMISSION

47 CFR Part 11

Emergency Alert System (EAS)

CFR Correction

In Title 47 of the Code of Federal Regulations, Parts 0 to 19, revised as of October 1, 2008, on page 719, in § 11.31, in paragraph (b), before the last sentence, reinstate the following sentence:

§ 11.31 EAS protocol.

* * * * *

(b) * * * Unused characters must be ASCII space characters. * * *

* * * * *

[FR Doc. E9-23478 Filed 9-28-09; 8:45 am]

BILLING CODE 1505-01-D